DEPARTMENT OF HOMELAND SECURITY

U.S. Citizenship and Immigration Services

[CIS No. 2382-06; DHS Docket No. USCIS-2006-0005]

RIN 1615-ZA34

Automatic Extension of Employment Authorization Documentation for El Salvadoran TPS Beneficiaries

AGENCY: U.S. Citizenship and Immigration Services, Department of Homeland Security.

ACTION: Notice.

SUMMARY: This Notice alerts the public that Employment Authorization Documents (EADs) issued under the designation of El Salvador for TPS and bearing an expiration date of either July 5, 2006 or September 9, 2006 are automatically extended until March 9, 2007. Prior to the most recent extension of El Salvador for Temporary Protected Status (TPS), the designation of El Salvador for TPS was set to expire on September 9, 2006. On June 15, 2006, a Notice was published in the Federal Register to inform the public that the Secretary extended the designation of El Salvador for TPS for 12 months until September 9, 2007. The June 15, 2006 Notice set forth procedures for nationals of El Salvador (or aliens having no nationality who last habitually resided in El Salvador) with TPS to re-register and to apply for an extension of their EADs. The June 15, 2006 Notice also automatically extended until March 9, 2007 the validity of EADs issued under the designation of El Salvador for TPS that bear an expiration date of September 9, 2006. Certain El Salvadoran TPS beneficiaries, however, received EADs with an expiration date of July 5, 2006, and thus are not covered by this automatic extension provision. This Notice alerts the public that EADs issued under the designation of El Salvador for TPS and bearing an expiration date of either July 5, 2006 or September 9, 2006 are automatically extended until March 9, 2007 and explains how TPS beneficiaries and their employers may determine which EADs are automatically extended.

FOR FURTHER INFORMATION CONTACT: Matthew Horner, Status and Family Branch, Service Center Operations, U.S. Citizenship and Immigration Services, Department of Homeland Security, 20 Massachusetts Avenue, NW., 2nd Floor, Washington, DC 20529, telephone (202) 272-1505. This is not a toll free number.

DATES: This notice is effective June 29, 2006.

SUPPLEMENTARY INFORMATION:

Abbreviations and Terms Used in This Document

Act—Immigration and Nationality Act

ASC—USCIS Application Support Center

DHS—Department of Homeland Security

EAD—Employment Authorization Document

Secretary—Secretary of Homeland Security

TPS—Temporary Protected Status

USCIS—U.S. Citizenship and Immigration Services

What authority does the Secretary of Homeland Security (Secretary) have to automatically extend the validity of EADs issued under the designation of El Salvador for TPS?

Under section 244 of the Immigration and Nationality Act (Act), 8 U.S.C. 1254a, the Secretary after consultation with appropriate agencies of the Government, is authorized to designate a foreign state (or part thereof) for TPS. 8 U.S.C. 1254a(b)(1). At least 60 days before the expiration of the TPS designation, or any extension thereof, the Secretary, after consultations with appropriate agencies of the Government, must review the conditions in a foreign state designated for TPS to determine whether the conditions for a TPS designation continue to be met and, if so, the length of an extension of the TPS designation. 8 U.S.C. 1254a(b)(3)(A). The Secretary may grant TPS to eligible nationals of that foreign state (or aliens having no nationality who last habitually resided in that state) and authorize those aliens to engage in employment authorization. 8 U.S.C. 1254a(a)(1). EADs are issued to TPS beneficiaries during the period of designation or extension of such period and the periods of validity of the documentation may be staggered to provide for an orderly renewal of such documentation. 8 U.S.C. 1254a(d)(1), (2).

Why did the Secretary decide to automatically extend the validity of EADs issued under the designation of El Salvador for TPS?

The Secretary recognized that, under the extension and re-registration period beginning July 3, 2006, some El Salvadoran TPS beneficiaries may not receive an extension sticker or a new EAD before their current EADs expire. Therefore, on June 15, 2006, the Secretary automatically extended until March 9, 2007 the validity of EADs issued under the designation of El Salvador for TPS that bear an expiration date of September 9, 2006. 71 FR 34637. Certain El Salvadoran TPS beneficiaries, however, were issued EADs with an expiration date of July 5, 2006, and consequently are not covered by the automatic extension in that June 15, 2006 Federal Register Notice. Accordingly, this Notice automatically extends until March 9, 2007 the validity of EADs issued under the designation of El Salvador for TPS which have an expiration date of July 5, 2006 or September 9, 2006.

If I currently have benefits through the designation of El Salvador for TPS, do I need to re-register for TPS?

Yes. If you already have received TPS benefits through the designation of El Salvador for TPS, your benefits will expire on September 9, 2006. Accordingly, individual TPS beneficiaries must comply with the re-registration requirements set forth in the Federal Register at 71 FR 34637 on June 15, 2006. The June 15, 2006 Notice as well as the present Notice can be found on the U.S. Citizenship and Immigration Services (USCIS) Web site at http://www.uscis.gov/graphics/services/tps_elsa.htm or by contacting Matthew Horner, Service Center Operations, USCIS, (202) 272-1505. Failure to re-register during the re-registration period without good cause will result in the withdrawal of your temporary protected status and possibly your removal from the United States. 8 U.S.C. 1254a(c)(3)(C).

How may employers determine whether an EAD has been automatically extended through March 9, 2007, and is therefore acceptable for completion of the Form I-9?

For purposes of verifying identity and employment eligibility or re-verifying employment eligibility on the Form I-9 until March 9, 2007, employers of El Salvadoran TPS beneficiaries whose EADs have been automatically extended must accept the EAD if presented. An EAD (Form I-766) that has been automatically extended by this Notice or by the Notice published at 71 FR 34637 to March 9, 2007, will actually contain an expiration date of July 5, 2006 or September 9, 2006, and must be a Form I-766 bearing the notation “A-12” or “C-19” on the face of the card under “Category.”

In the alternative, any legally acceptable documentation or combination of documents listed in List A, List B, or List C of the Form I-9 may be presented as proof of identity and employment eligibility; it is the choice of the employee.

Employers should not request proof of El Salvadoran citizenship. Employers presented with an EAD that has been extended pursuant to this Federal Register Notice, provided it appears to be genuine and to relate to the employee, should accept the EAD as a valid “List A” document and should not ask for additional Form I-9 documentation. This Federal Register Notice does not affect the right of an employee to present any legally acceptable document as proof of identity and eligibility for employment.

Employers are reminded that the laws prohibiting unfair immigration-related employment practices remain in full force. This Notice does not supersede or in any way limit applicable employment verification rules and policy guidance, including those setting forth re-verification requirements, see 8 CFR 274a.2(b)(1)(vii). For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD).

Employees or applicants may call the OSC Employee Hotline at 1-800-255-7688 or 1-800-237-2515 (TDD) for information regarding the automatic extension. Additional information is available on the OSC Web site at http://www.usdoj.gov/crt/osc/index.html.

How may employers determine an employee's eligibility for employment once the automatic extension has expired, after March 9, 2007, and before the expiration of EADs for El Salvadoran TPS beneficiaries on September 30, 2007?

El Salvadorans with TPS will possess either: (1) An EAD with an expiration date of September 30, 2007; or (2) an EAD with an expiration date of July 5, 2006 or September 9, 2006 and a sticker affixed to it extending the validity of the EAD through September 2007. In either case, the EAD will be a Form I-766 bearing the notation “A-12” or “C-19” on the face of the card under “Category.” Either of these EADs must be accepted for the purpose of verifying identity and/or employment authorization. Employers are reminded that the laws prohibiting unfair immigration-related employment practices remain in full force, as described above.

What documents may a qualified individual show to his or her employer as proof of employment authorization and identity when completing Form I-9, Employment Eligibility Verification?

Until March 9, 2007, qualified individuals who have received an automatic extension of their EADs by virtue of this Federal Register Notice or the June 15, 2006 Notice published at 71 FR 34637 may present to their employer a TPS-based EAD, as described above, as proof of identity and employment authorization until March 9, 2007 (see section “How may employers determine an employee's eligibility for employment once the automatic extension has expired, after March 9, 2007, and before the expiration of EADs for El Salvadoran TPS beneficiaries on September 30, 2007”). To minimize confusion over this extension at the time of hire or re-verification, qualified individuals may also present a copy of this Federal Register Notice regarding the automatic extension of employment authorization documentation to March 9, 2007.

Qualified individuals will receive either a sticker affixed to his or her current EAD, which extends the validity period of the EAD through the end of September 2007, or a new EAD valid through September 30, 2007. Either an EAD with the extension sticker or a newly issued EAD may be presented as evidence of employment authorization.

In the alternative to the aforementioned options, the employee may choose to present as proof of identity and employment eligibility any legally acceptable document or combination of documents listed in List A, List B, or List C of the Form I-9.

Information concerning the automatic extension of EADs for El Salvadoran TPS beneficiaries will be available at local USCIS offices upon publication of this Notice and on the USCIS Web site at http://www.uscis.gov.

Dated: June 29, 2006.
Emilio Gonzalez,
Director, U.S. Citizenship and Immigration Services.

[FR Doc. 06-5975 Filed 6-29-06; 11:25 am]

BILLING CODE 4410-10-P